DEPARTMENT OF TRANSPORTATION

Federal Aviation Administration

Public Meeting on Future Policy and Rulemaking for Normal, Utility, Acrobatic, and Commuter Category Small Airplanes

AGENCY: Federal Aviation Administration (FAA), DOT.

ACTION: Notice of public meeting.

SUMMARY: The FAA is issuing this notice to advise the public of a meeting to discuss a review of the requirements for small airplanes. This discussion focuses on the future of small airplane regulation; however, we are asking for feedback concerning maintenance and operations, and not just certification.

DATES: The meeting will be held February 23 and 24 from 8 a.m. to 5 p.m. each day.

ADDRESSES: The meeting will be held at the Marriott, 9100 Corporate Hills Drive, Wichita, Kansas 67207.

FOR FURTHER INFORMATION CONTACT: Mr. Lowell Foster, Regulations and Policy, ACE-111, Federal Aviation Administration, 901 Locust St., Kansas City, MO 64106; telephone: (816) 329-4125; facsimile (816) 329-4090; e-mail: lowell.foster@faa.gov.

SUPPLEMENTARY INFORMATION: Notice is hereby given of a public meeting to initiate the review of 14 CFR part 23 regulations. The last thorough review of part 23 requirements occurred more than 25 years ago. Due to this long interval, this regulatory review goes beyond the traditional regulatory reviews.

We are attempting to determine the adequacy of the current airworthiness standards throughout a small airplane's service life while anticipating future requirements. We encourage the public's participation and feedback in developing or amending new and existing policy, guidance, and rulemaking. These efforts will affect the next 20 years of small airplane design, certification, and operations. Specifically, we would like feedback from manufacturers, pilots, owners, mechanics, instructors and anyone else with an interest in the small airplane industry.

The FAA's Small Airplane Directorate plans to host at least three, two-day meetings, depending on public interest. There may be a meeting in the southeast and southwest regions of the United States. The meetings will not follow a fixed agenda, but the discussions will generally follow the findings from a recent two-year study. That study, the “Part 23 Small Airplane Certification Process Study,” addressed the following areas:

• Structure and Process of Part 23

• Design Certification

• Continued Airworthiness

• Data Management

• Pilot Interface

The report is available on-line at: http://www.faa.gov/about/office_org/headquarters_offices/avs/offices/air/directorates_field/small_airplanes/.

Included in the study are recommendations associated with certification, maintenance, modifications, and pilot training. Also included in the report is the recommendation to revise part 23 such that requirements are based on airplane performance and complexity. Since the beginning, small airplane certification requirements have been based on propulsion and weight. Many previous assumptions for small airplanes are no longer accurate. This is discussed in detail in the Certification Process Report.

The FAA plans to open each meeting with a detailed presentation from the Certification Process Study findings followed by opening the floor for discussions. There will be an official recorder participating at each meeting. The meeting minutes, as well as any comments, feedback, recommendations or action items will become public record.

Attendance is open to the interested public but limited to space availability. Since seating is limited, we ask anyone interested in attending to notify Lowell Foster at the phone or e-mail address listed in the For Further Information Contact section.

Issued in Kansas City, Missouri on January 20, 2010.
James E. Jackson,
Acting Manager, Small Airplane Directorate, Aircraft Certification Service.

[FR Doc. 2010-1523 Filed 1-26-10; 8:45 am]

BILLING CODE 4910-13-P